ENVIRONMENTAL PROTECTION AGENCY

[EPA-HQ-OECA-2005-0031; FRL-8034-6]

Agency Information Collection Activities; Submission for OMB Review and Approval; Comment Request; NESHAP for Municipal Solid Waste Landfills (Renewal), ICR Number 1938.03, OMB Number 2060-0505

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on April 30, 2006. Under OMB regulations, the Agency may continue to conduct or sponsor the collection of information while this submission is pending at OMB. This ICR describes the nature of the information collection and its estimated burden and cost.

DATES: Additional comments may be submitted on or before March 23, 2006.

ADDRESSES: Submit your comments, referencing docket ID number EPA-HQ-OECA-2005-0031, to (1) EPA online using http://www.regulations.gov (our preferred method), by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, (Mail Code 2223A), Environmental Protection Agency, 1200 Pennsylvania Avenue, NW., Washington, DC 20460; telephone number: (202) 564-4113; fax number: (202) 564-0050; email address: williams.learia@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID Number EPA-HQ-OECA 2005-0031, which is available for online viewing at http://www.regulations.gov, or in person viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752.

Use EPA's electronic docket and comment system at http://www.regulations.gov to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing at http://www.regulations.gov as EPA receives them and without change, unless the comment contains copyrighted material, Confidential Business Information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing at http://www.regulations.gov. For further information about the electronic docket, go to http://www.regulations.gov.

Title: NESHAP for Municipal Solid Waste Landfills (Renewal).

Abstract: The National Emission Standards for Hazardous Air Pollutants (NESHAP) for municipal solid waste landfills were proposed on November 7, 2000, and promulgated on January 16, 2003. These standards apply to each existing and new municipal solid waste (MSW) landfills. This subpart applies to a MSW landfill that has accepted waste since November 8, 1987 or has additional capacity for waste deposition, a major source, collocated with a major source, and an area source landfill with a design capacity equal to or greater than 2.5 million megagrams (Mg) and 2.5 million cubic meters (m³), and has estimated uncontrolled emissions equal to or greater than 50 megagrams per year (Mg/yr) of nonmethane organic compounds (NMOC), or a MSW landfill that has accepted waste since November 8, 1987 or has additional capacity for waste deposition, that includes a bioreactor, is a major source, collocated with a major source, and an area source with a design capacity equal to or greater than 2.5 million Mg and 2.5 million m³ that is not permanently closed as of January 16, 2003.

Owners or operators of the affected facilities would be required to submit semiannual compliance reports for control device operating parameters prepare a startup, shutdown, and malfunction (SSM) plan and prepare semiannual SSM reports.

Any owner or operator subject to the provisions of this subpart must maintain a file of these measurements, and retain the file for at least two years following the collection of such measurements, maintenance reports, and records. All reports are sent to the delegated state or local authority. In the event that there is no such delegated authority, the reports are sent directly to the regional EPA office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average five hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owner or operator of each municipal solid waste landfill.

Estimated Number of Respondents: 1,121.

Frequency of Response: On occasion, semi-annually, and annually.

Estimated Total Annual Hour Burden: 18,234 hours.

Estimated Total Annual Costs: $1,489,837, which includes $0 annualized capital/startup costs, $17,000 annual O&M costs, and $1,472,837 annual labor costs.

Changes in the Estimates: There was a decrease of 21,126 hours in the total estimated burden currently identified in the OMB Inventory of Approved ICR Burdens. The adjustment decrease in burden from the most recently approved ICR is due to a decrease in the number of sources. After we conducted a thorough analysis with the municipal solid waste landfills industry and obtained their spreadsheet that depicts MSW landfills whose capacity met or exceeded 2.5 million Mg, we were able to determine that there are 1,119 active landfills with a projection of one additional landfill per year over the next three years, for a total average of 1,121, as compared to 1,330 in the previous ICR. In addition, the startup, shutdown and malfunction plan has been completed for existing facilities. This only applies to a facility when it first becomes subject to the standard. The plans were completed, by in large, during the last ICR cycle.

The capital/startup costs are not included because this NESHAP does not require MSW landfills to purchase or operate additional control equipment or monitoring devices.

Dated: February 7, 2006.
Oscar Morales,
Director, Collection Strategies Division.

[FR Doc. E6-2407 Filed 2-17-06; 8:45 am]

BILLING CODE 6560-50-P